DEPARTMENT OF JUSTICE

[OMB Number 1122-0028]

Agency Information Collection Activities; Proposed eCollection eComments Requested; Extension of a Previously Approved Collection; Semiannual Progress Report for the Children and Youth Exposed to Violence Program

AGENCY: Office on Violence Against Women, Department of Justice.

ACTION: 60-Day notice.

SUMMARY: The Office on Violence Against Women, Department of Justice (DOJ), will be submitting the following information collection request to the Office of Management and Budget (OMB) for review and approval in accordance with the Paperwork Reduction Act of 1995.

DATES: Comments are encouraged and will be accepted for 60 days until July 7, 2025.

FOR FURTHER INFORMATION CONTACT: If you have additional comments especially on the estimated public burden or associated response time, suggestions, or need a copy of the proposed information collection instrument with instructions or additional information, please contact Catherine Poston, Office on Violence Against Women, at 202-514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the Office on Violence Against Women, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including through the use of appropriate automated, electronic, mechanical, or other technological collection techniques or other forms of information technology, e.g., permitting electronic submission of responses.

Abstract: This form was first approved for the Children and Youth Exposed to Violence (CEV) Program; a federal grant program previously authorized under the Violence Against Women Act. Currently, OVW administers the Children and Youth & Engaging Men (CYEM) Program which supports comprehensive, community-based efforts that develop and expand prevention, intervention, treatment, and response strategies to address the needs of children and youth impacted by domestic violence, dating violence, sexual assault, and stalking. In addition, the CYEM Program focuses on boys' and men's roles in ending violence against women by supporting projects that create educational programming and community organizing to encourage men and boys to work as allies with women and girls to prevent domestic violence, dating violence, sexual assault, and stalking. Through its grant awards, the CYEM Program aims to build safe, supportive, and accountable communities by preventing physical and sexual violence. Since FY 2012, the CYEM Program has been authorized by federal appropriations acts. The CYEM program releases two separate funding opportunities under one program: (1) Children and Youth (CY) and (2) Engaging Men (EM). The CY Program focuses on services and training to address children exposed to domestic violence, dating violence, sexual assault, and stalking (ages 0-10); creating safer communities for youth: prevention, intervention, treatment, and response services for youth impacted by domestic violence, dating violence, sexual assault, and stalking (ages 11-24); or providing school-based services: prevention, intervention, and response to dating violence, sexual assault, and stalking (ages 5-19). Grantees receiving funds under the CY Program utilize the progress reporting form previously approved for the previously authorized CEV Program grantees.

Overview of This Information Collection

1. Type of Information Collection: Extension of a currently approved collection.

2. Title of the Form/Collection: Semiannual Progress Report for the Children and Youth Exposed to Violence Program.

3. Agency form number, if any, and the applicable component of the Department of Justice sponsoring the collection: Form Number: 1122-0028. U.S. Department of Justice, Office on Violence Against Women.

4. Affected public who will be asked or required to respond, as well as a brief abstract: The affected public grantees for the CY Program which include nonprofit, nongovernmental entities; tribal organizations; Indian tribal governments; and units of local government or agencies of units of local government in the United States or U.S. territories.

5. An estimate of the total number of respondents and the amount of time estimated for an average respondent to respond/reply: The affected public includes the approximately 25 grantees of the CY Program. It is estimated that it will take the approximately 25 respondents (CY Program grantees) approximately one hour to complete a semiannual progress report. The semiannual progress report is divided into sections that pertain to the different types of activities in which grantees may engage. A CY Program grantee will only be required to complete the sections of the form that pertain to its own specific activities.

6. An estimate of the total public burden (in hours) associated with the collection: The total semiannual hour burden to complete the data collection form is 50 hours, that is 25 grantees completing a form twice a year with an estimated completion time for the form being one hour.

7. An estimate of the total annual cost burden associated with the collection, if applicable: The annualized costs to the Federal Government resulting from the OVW staff review of the progress reports submitted by grantees are estimated to be $1,400.

8. Total Burden Hours.

Activity | Number of respondents | Frequency | Total annual responses | Time per response | Total annual burden (hours)
Progress Report Form | 25 |  | 50 | 1 | 50
Unduplicated Totals | 25 |  | 50 |  | 50

If additional information is required contact: Darwin Arceo, Department Clearance Officer, United States Department of Justice, Justice Management Division, Policy and Planning Staff, Two Constitution Square, 145 N Street NE, 4W-218, Washington, DC.

Dated: April 29, 2025.
Darwin Arceo,
Department Clearance Officer for PRA, U.S. Department of Justice.

[FR Doc. 2025-07690 Filed 5-2-25; 8:45 am]

BILLING CODE 4410-FX-P